DEPARTMENT OF STATE

[Public Notice 5206]

Determination Under Section 564 of the Foreign Relations Authorization Act, Fiscal Years 1994 and 1995, Public Law 103-236, as Amended; Suspending Prohibitions on Certain Sales and Leases Under the Anti-Economic Discrimination Act of 1994

Pursuant to the authority vested in the President by Section 564 of the Foreign Relations Authorization Act (“the Act”), Fiscal Years 1994 and 1995, Public Law 103-236, as amended, which was delegated to the Secretary of State on April 24, 1997, I hearby determine that instituting the suspension of the application of Section 564(a) of the Act to Iraq and extending the suspension of the application of Section 564(a) of the Act to the following eight countries until May 1, 2006 will promote the objectives of section 564: Bahrain, Kuwait, Lebanon, Oman, Qatar, Saudi Arabia, United Arab Emirates, Yemen.

This determination will be reported to the appropriate committees of the Congress and published in the Federal Register.

Dated: May 13, 2005.
Condoleezza Rice,
Secretary of State, Department of State.

Editorial Note: This document was received in the Office of the Federal Register on October 11, 2005.

[FR Doc. 05-20609 Filed 10-13-05; 8:45 am]

BILLING CODE 4710-31-P